DEPARTMENT OF HEALTH AND HUMAN SERVICES

Centers for Disease Control and Prevention

[30Day-16-15AUE]

Agency Forms Undergoing Paperwork Reduction Act Review

The Centers for Disease Control and Prevention (CDC) has submitted the following information collection request to the Office of Management and Budget (OMB) for review and approval in accordance with the Paperwork Reduction Act of 1995. The notice for the proposed information collection is published to obtain comments from the public and affected agencies.

Written comments and suggestions from the public and affected agencies concerning the proposed collection of information are encouraged. Your comments should address any of the following: (a) Evaluate whether the proposed collection of information is necessary for the proper performance of the functions of the agency, including whether the information will have practical utility; (b) Evaluate the accuracy of the agencies estimate of the burden of the proposed collection of information, including the validity of the methodology and assumptions used; (c) Enhance the quality, utility, and clarity of the information to be collected; (d) Minimize the burden of the collection of information on those who are to respond, including through the use of appropriate automated, electronic, mechanical, or other technological collection techniques or other forms of information technology, e.g., permitting electronic submission of responses; and (e) Assess information collection costs.

To request additional information on the proposed project or to obtain a copy of the information collection plan and instruments, call (404) 639-7570 or send an email to omb@cdc.gov. Written comments and/or suggestions regarding the items contained in this notice should be directed to the Attention: CDC Desk Officer, Office of Management and Budget, Washington, DC 20503 or by fax to (202) 395-5806. Written comments should be received within 30 days of this notice.

Proposed Project

Capacity Building Assistance Assessment for HIV Prevention—New—Division of HIV/AIDS Prevention, National Centers for HIV/AIDS, Viral Hepatitis, STD and TB Prevention (NCHHSTP), Centers for Disease Control and Prevention (CDC).

Background and Brief Description

For over 30 years, Human Immunodeficiency Virus (HIV) has been an epidemic, affecting millions globally. Some groups are disproportionately affected by this epidemic. In order to address these health disparities, the CDC is funding 120 CBOs and their collaborative partners (Partnerships) to address the national HIV epidemic by reducing new infections, increasing access to care, and promoting health equity; particularly for people living with and at greatest risk of HIV infection. This includes including African Americans/Blacks; Latinos/Hispanics; all races and ethnicities of gay, bisexual, and other MSM; IDUs; and transgender persons.

Building the capacity of the funded community-based organizations to conduct HIV programs and services is a priority to ensure effective and efficient delivery of HIV prevention treatment and care services. Since the late 1980s, CDC has been working with CBOs to broaden the reach of HIV prevention efforts. Over time, the CDC's program for HIV prevention has grown in size, scope, and complexity, responding to changes in approaches to addressing the epidemic, including the introduction of new guidance, effective behavioral, biomedical, and structural interventions, and public health strategies.

The Capacity Building Branch within the Division of HIV/AIDS Prevention (D provides national leadership and support for capacity building assistance (CBA) to help improve the performance of the HIV prevention workforce. One way that it accomplishes this task is by funding CBA providers to work with CBOs, health departments, and communities to increase their knowledge, skills, technology, and infrastructure to implement and sustain science-based, culturally appropriate High Impact HIV Prevention (HIP) interventions and public health strategies.

Applicants selected for funding must work with the CDC-funded CBA providers to develop and implement a Capacity Building Assistance Strategic Plan (CBASP). The information collected via this process will be used to construct a CBASP for each funded organization in collaboration with CDC's Capacity Building Branch (CBB). CBA Providers will provide technical assistance and training to ensure that the CBOs and Partnerships have the skills and support they need to successfully implement their CDC-funded HIV High Impact Prevention program.

CBA providers will utilize the CBO CBA Assessent Tool which offers a mixed-method data collection approach with close-ended, and open-ended questions. CBOs will complete and submit the completed web-based Tool, which will be discussed, and needs confirmed, during a follow-up phone contact assessment. A follow-up site visit may be recommended for CBOs with dire needs (up to 20%), which will be scheduled upon approval by the Project Officer and Program Consultant. Data from all completed Tools will be analyzed and used to develop a CBA Strategic Plan (CBASP) which will be housed in the Capacity Assistance Request Information System (managed by the Capacity Building Branch), in the Division of HIV/AIDS Prevention and consulted by CBA Providers assigned to respond to the prioritized CBOs' CBA needs.

By the end of the project, the participating CBOs and Partnerships will have tailored CBA strategic plans that they can use to help sustain their programs across and beyond the life of their funding. Based on these plans, the CBA providers in collaboration with CDC will be able to better identify and address those needs most reported by CBOs. Finally, the Capacity Building Branch will be able to refine its approach to conceptualizing and providing CBA on a national level in the most cost-effective manner possible. There is no cost to respondents other than their time. The total annual burden hours are 240.

Estimated Annualized Burden Hours
Type of respondents | Form name | Number of respondents | Number of responses per respondent | Avg. burden per response (in hrs.)
CBO Grantees | CBO CBA Assessment Tool | 120 | 1 | 2

Leroy A. Richardson,
Chief, Information Collection Review Office, Office of Scientific Integrity, Office of the Associate Director for Science, Office of the Director, Centers for Disease Control and Prevention.

[FR Doc. 2016-17643 Filed 7-25-16; 8:45 am]

BILLING CODE 4163-18-P